DEPARTMENT OF HOMELAND SECURITY

Coast Guard

[Docket No. USCG-2021-0735]

Policy Letter: Change 1 to CG-MMC Policy Letter 01-21, Guidelines for Qualifying for STCW Endorsements for Basic and Advanced IGF Code Operations

AGENCY: Coast Guard, Homeland Security (DHS).

ACTION: Notice of availability.

SUMMARY: The Coast Guard announces the availability of Change 1 to CG-MMC Policy Letter 01-21, Guidelines for Qualifying for STCW Endorsements for Basic and Advanced IGF Code Operations. The Coast Guard will use applicable regulations and this policy to evaluate whether mariners may be issued endorsements for Basic and Advanced IGF Code Operations.

DATES: The policies announced in Change 1 to CG-MMC Policy Letter 01-21 are effective as of September 20, 2021.

ADDRESSES: To view the policy letter mentioned in this notice, search the docket number USCG-2021-0735 using the Federal eRulemaking Portal at https://www.regulations.gov.

FOR FURTHER INFORMATION CONTACT: For information about this document, contact James Cavo, Mariner Credentialing Program Policy Division (CG-MMC-2), Coast Guard; telephone 202-372-1205; email MMCPolicy@uscg.mil.

SUPPLEMENTARY INFORMATION: The Coast Guard is revising CG-MMC Policy Letter 01-21 to reduce the amount of seagoing service required to renew an endorsement for Basic or Advanced IGF Code Operations and to add an additional method to renew the endorsement by providing evidence of being a qualified instructor of a relevant course.

The seagoing service option to renew a Basic or Advanced IGF Code Operations endorsement in the original policy letter exceeds the seagoing service requirement to initially qualify for an STCW endorsement in Basic IGF Code Operations. Holding an STCW endorsement for Advanced Liquefied Gas Tanker Cargo Operations or Basic Liquefied Gas Tanker Cargo Operations is a method to qualify for the Basic IGF Code endorsement. The seagoing service requirement to qualify for either an Advanced Liquefied Gas Tanker Cargo Operations endorsement or an Basic Liquefied Gas Tanker Cargo Operations endorsement is 90 days. This change reduces the seagoing service required as an option to renew an STCW endorsement for Basic IGF Code Operations to 90 days. In addition, this change notice reduces the seagoing service required as an option to renew an STCW for Advanced IGF Code Operations to 90 days.

Methods to qualify for renewal of an STCW endorsement in IGF Code Operations include completion of refresher training, evidence of being a qualified instructor of a relevant course, or seagoing service. Mariners will also need to meet the applicable requirements in 46 CFR 10.227 for the renewal of their MMC.

This notice is issued under authority of 5 U.S.C. 552(a).

Dated: September 20, 2021.
J.G. Lantz,
U.S. Coast Guard, Director of Commercial Regulations and Standards.

[FR Doc. 2021-21635 Filed 10-4-21; 8:45 am]

BILLING CODE 9110-04-P